Proclamation 8624 of January 14, 2011

Martin Luther King, Jr., Federal Holiday, 2011

By the President of the United States of America

A Proclamation

Half a century ago, America was moved by a young preacher who called a generation to action and forever changed the course of history. The Reverend Dr. Martin Luther King, Jr. devoted his life to the struggle for justice and equality, sowing seeds of hope for a day when all people might claim “the riches of freedom and the security of justice.” On Martin Luther King, Jr., Federal Holiday, we commemorate the 25th anniversary of the holiday recognizing one of America’s greatest visionary leaders, and we celebrate the life and legacy of Dr. King.

Dr. King guided us toward a mountaintop on which all Americans—regardless of skin color—could live together in mutual respect and brotherhood. His bold leadership and prophetic eloquence united people of all backgrounds in a noble quest for freedom and basic civil rights. Inspired by Dr. King’s legacy, brave souls have marched fearlessly, organized relentlessly, and devoted their lives to the unending task of perfecting our Union. Their courage and dedication have carried us even closer to the promised land Dr. King envisioned, but we must recognize their achievements as milestones on the long path to true equal opportunity and equal rights.

We must face the challenges of today with the same strength, persistence, and determination exhibited by Dr. King, guided by the enduring values of hope and justice embodied by other civil rights leaders. As a country, we must expand access to opportunity and end structural inequalities for all people in employment and economic mobility. It is our collective responsibility as a great Nation to ensure a strong foundation that supports economic security for all and extends the founding promise of life, liberty, and the pursuit of happiness to every American.

Dr. King devoted his life to serving others, reminding us that “human progress is neither automatic nor inevitable. Every step toward the goal of justice requires sacrifice, suffering, and struggle—the tireless exertions and passionate concern of dedicated individuals.” Commemorating Dr. King’s life is not only a tribute to his contributions to our Nation and the world, but also a reminder that every day, each of us can play a part in continuing this critical work.

For this reason, we honor Dr. King’s legacy with a national day of service. I encourage all Americans to visit www.MLKDay.gov to learn more about service opportunities across our country. By dedicating this day to service, we move our Nation closer to Dr. King’s vision of all Americans living and working together as one beloved community.

NOW, THEREFORE, I BARACK OBAMA, President of the United States of America, by virtue of the authority vested in me by the Constitution and the laws of the United States, do hereby proclaim January 17, 2011, as the Martin Luther King, Jr., Federal Holiday. I encourage all Americans to observe this day with appropriate civic, community, and service programs in honor of Dr. King’s life and lasting legacy.

IN WITNESS WHEREOF, I have hereunto set my hand this fourteenth day of January, in the year of our Lord two thousand eleven, and of the Independence of the United States of America the two hundred and thirty-fifth.

[FR Doc. 2011-1303

Filed 1-19-11; 11:15 am]

Billing code 3195-W1-P